DEPARTMENT OF TRANSPORTATION

Federal Aviation Administration

Notice of Policy; Amendments of the IACC Technical Specifications for the World Aeronautical Chart Series

AGENCY: Federal Aviation Administration (FAA), DOT.

SUMMARY: This notice announces amendments to the technical specification in the Interagency Air Cartographic Committee Specifications that address the depiction of man-made obstructions 500 feet or more above ground level (AGL) on the World Aeronautical Chart series.

DATES: This policy is effective on December 18, 2008.

FOR FURTHER INFORMATION CONTACT: George P. Sempeles, System Operations Airspace and Aeronautical Information Management, AJR-32, FAA, 800 Independence Ave., SW., Washington, DC 20591; telephone (202) 267-9290.

SUPPLEMENTARY INFORMATION:

Availability of Documents

You can get an electronic copy of this document using the Internet by—

1. Visiting the FAA's Regulations and Policies Web page at http://www.faa.gov/regulations_policies/; or

2. Accessing the Government Printing Offices' Web page at http://www.gpoaccess.gov/fr/indes.html.

Background

The Interagency Air Cartographic Committee (IACC) is comprised of representatives of the Department of Defense and the FAA, who develop technical specifications for use in the preparation of the United States Government World Aeronautical Charts (WAC) and the Operational Navigation Charts.

The WAC provides a standard series of aeronautical charts covering land areas at a size and scale convenient for navigation by moderate-speed aircraft at high altitudes within the low altitude airspace structure. These charts are used for flight planning and in-flight navigation by VFR pilots on extended cross country flight. Because of their smaller scale, these charts do not depict as much detailed information as appears on the Sectional and Terminal Area Charts. WACs are not recommended for exclusive use by pilots of low speed, low altitude aircraft because certain information is not depicted.

Currently and in accordance with the IACC 3 specifications, obstructions exceeding 200 feet AGL in height (300 feet AGL in densely populated areas) are charted on the WAC, if the obstruction's location is critical and space permits. Charting these low level obstructions provides limited value to pilots during cross country flight and adds to chart clutter reducing legibility. With the advancements in onboard navigational databases, the aviation community has requested that additional information be added to the WAC to support using these database systems

Policy Change

The FAA recognizes the need to incorporate new information on public aeronautical charts in support of technological advancements in air navigation techniques. The FAA also recognizes the need to reduce clutter on public aeronautical charts in order to maintain legibility while supporting the intended use of these products.

In reviewing industry's request, the IACC concluded that the addition of this new information would increase congestion on the charts and that it is necessary to modify the technical specifications that require the charting of low-level obstructions to reduce chart clutter. On April 14, 2008, the IACC amended the technical specifications in IACC 3 that govern the construction and maintenance of WACs to depict only those man-made obstructions equal to or greater than 500 feet AGL. The larger scale Sectional and Terminal Area charts, which contain greater detail, will continue to depict man-made obstructions to the maximum extent allowed by IACC 2. The first WAC published under the new specifications will be on December 18, 2008.

In keeping with U.S. obligations under the Convention on International Civil Aviation, it is FAA policy to comply with International Civil Aviation Organization (ICAO) Standards and Recommended Practices to the maximum extent practicable. The FAA reviewed the corresponding ICAO Standards and Recommended Practices set forth in ICAO Annex 4. Because the FAA shall continue to use the 300 foot obstruction height in charts with a scale of 1:500,000, it is permissible to use the new WAC obstacle height of 500 feet while still meeting the intent of paragraph 16.9.3.1 of ICAO Annex 4. Nevertheless, the FAA will identify the following difference: On the WAC series, only obstacles 500 feet or greater AOL will be depicted versus the ICAO SARP of depicting obstacles 300 feet or greater AGL.

Issued in Washington, DC, on July 3, 2008.
Richard V. Powell,
Manager, Aeronautical Information Services.

[FR Doc. E8-15956 Filed 7-15-08; 8:45 am]

BILLING CODE 4910-13-M